DEPARTMENT OF JUSTICE

Antitrust Division

Notice Pursuant to the National Cooperative Research and Production Act of 1993; Cooperative Research Group on Separation Technology Research Program

Notice is hereby given that, on August 8, 2014, pursuant to Section 6(a) of the National Cooperative Research and Production Act of 1993, 15 U.S.C. 4301 et seq. (“the Act”), Southwest Research Institute—Cooperative Research Group on Separation Technology Research Program (“STAR”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Aker Process Systems, Fornebu, Norway; Amistco Separation Products, Inc, dba AMACS Process Tower Internals, Houston, TX; Chevron Energy Technology Co., a Division of Chevron USA, Inc., Houston, TX; ExxonMobil Upstream Research Co., Houston, TX; FMC Separation Systems B.V., Arnhem, The Netherlands; Frames Separation Technologies B.V., Utrecht, The Netherlands; KGGP, LLC, Wichita, KS; Linde Engineering North America Inc., Blue Bell, PA; PetroSkills, LLC, Katy, TX; Rhodius GmbH, Bayern, Germany; Shell International Exploration and Production Inc., Houston, TX; Total E&P Recherche Et Developpement, Paris, France; Wartsila Oil & Gas Systems AS, Asker, Norway; Sulzer Chemtech Ltd., Winterthur, Switzerland; and OneSubsea LLC, Houston, TX. The general area of STAR's planned activity is to increase fundamental knowledge of separation technology for use in the oil and gas industry. This will be accomplished by conducting research related to separation technology as well as through conducting systematic testing on and enabling qualification of separation equipment. STAR will also develop standardized procedures for testing equipment and conduct fundamental research on separation technology for use by the separation equipment manufacturers, separation system designers, and end users.

Patricia A. Brink,
Director of Civil Enforcement, Antitrust Division.

[FR Doc. 2014-21286 Filed 9-5-14; 8:45 am]

BILLING CODE P-